INTERNATIONAL TRADE COMMISSION

[Investigations Nos. 303-TA-21 (Review) and 731-TA-451, 461, and 519 (Review)]

Gray Portland Cement and Cement Clinker from Japan, Mexico, and Venezuela ¹

AGENCY: United States International Trade Commission.

ACTION: Revised schedule for the subject reviews.

EFFECTIVE DATE: September 7, 2000.

FOR FURTHER INFORMATION CONTACT: Jim McClure (202-205-3191), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On March 27, 2000, the Commission established a schedule for the conduct of the subject reviews (65 FR 17901, April 5, 2000). The Commission has determined to exercise its authority to extend the review period by up to 90 days pursuant to 19 U.S.C. 1675(c)(5)(B), and is hereby revising its schedule.

The Commission's new schedule for the investigation is as follows: The Commission will make its final release of information on September 22, 2000; and final party comments are due on September 26, 2000.

For further information concerning this investigation see the Commission's notice cited above and the Commission's Rules of Practice and Procedure, part 201, subparts A through E (19 CFR part 201), and part 207, subparts A and F (19 CFR part 207).

¹ The investigation numbers are as follows: Japan is 731-TA-461 (Review); Mexico is 731-TA-451 (Review); and Venezuela is 303-TA-21 (Review) and 731-TA-519 (Review).

Authority: These reviews are being conducted under authority of title VII of the Tariff Act of 1930; this notice is published pursuant to section 207.62 of the Commission's rules.

By order of the Commission.
Issued: September 8, 2000.
Donna R. Koehnke,
Secretary.

[FR Doc. 00-23519 Filed 9-12-00; 8:45 am]

BILLING CODE 7020-02-P